SURFACE TRANSPORTATION BOARD

[Docket No. FD 36538]

The Central Railroad Company of Indiana—Acquisition and Operation Exemption—Patton-Lowe RR, Inc.

The Central Railroad Company of Indiana (CIND), a Class III railroad, has filed a verified notice of exemption under 49 CFR 1150.41 to enter into a transaction agreement (Transaction Agreement) with Patton-Lowe RR, Inc. (PLRI), for CIND to acquire and operate a rail line from approximately milepost 64.43 at Craig ¹ (east of the SR46 Grade Crossing, at a point of connection with CIND's Westport Industrial Track near CIND milepost 225.0) to 100 feet east of the switch at approximately milepost 64.61 (the Line).² The verified notice states that CIND has also entered into a trackage rights agreement to acquire incidental trackage rights over a connecting PLRI rail line, which will allow CIND to provide local and overhead service to customers.³

¹ Craig is an unincorporated railroad location immediately west of the boundary of the City of Greensburg, Ind. See Patton-Lowe RR—Acquis. Exemption—Consolidated Rail Corp., FD 36366, slip op. at 1 n.1 (STB served Jan. 3, 2020).

² The parties to the Transaction Agreement also include Lowe's Pellets and Grain, Inc. (Lowe's), the parent company of PLRI, and Next Generation, Inc. (NEXTGEN).

³ The Transaction Agreement also provides for the rehabilitation of certain track to allow CIND to access the incidental track and the Lowe's and NEXTGEN facilities.

CIND certifies that neither the Transaction Agreement and nor the trackage rights agreement impose or include an interchange commitment. CIND further certifies that its projected revenues as a result of the transaction will not exceed those that would qualify it as a Class III rail carrier but that its current annual revenues exceed $5 million. Pursuant to 49 CFR 1150.42(e), if a carrier's projected annual revenues will exceed $5 million, it must, at least 60 days before the exemption becomes effective, post a notice of its intent to undertake the proposed transaction at the workplace of the employees on the affected lines, serve a copy of the notice on the national offices of the labor unions with employees on the affected lines, and certify to the Board that it has done so. However, CIND's verified notice includes a request for waiver of the 60-day advance labor notice requirements. CIND's waiver request will be addressed in a separate decision. The Board will establish the effective date of the exemption in its separate decision on the waiver request.

If the verified notice contains false or misleading information, the exemption is void ab initio. Petitions to revoke the exemption under 49 U.S.C. 10502(d) may be filed at any time. The filing of a petition to revoke will not automatically stay the effectiveness of the exemption. Petitions for stay must be filed no later than October 15, 2021.

All pleadings, referring to Docket No. FD 36538, should be filed with the Surface Transportation Board via e-filing on the Board's website. In addition, one copy of each pleading must be served on CIND's representative, Eric M. Hocky, Clark Hill PLC, Two Commerce Square, 2001 Market Street, Suite 2620, Philadelphia, PA 19103.

According to CIND, this action is categorically excluded from environmental review under 49 CFR 1105.6(c) and from historic reporting requirements under 49 CFR 1105.8(b).

Board decisions and notices are available at www.stb.gov.

Decided: October 5, 2021.
By the Board, Valerie O. Quinn, Acting Director, Office of Proceedings.
Kenyatta Clay,
Clearance Clerk.

[FR Doc. 2021-22024 Filed 10-7-21; 8:45 am]

BILLING CODE 4915-01-P